Proclamation 7804 of July 26, 2004

Anniversary of the Americans with Disabilities Act, 2004

By the President of the United States of America

A Proclamation

The Americans with Disabilities Act of 1990 (ADA) marked a milestone in our Nation's quest to guarantee the civil rights of all citizens. The ADA is a success story that has strengthened the foundation for an America where we celebrate the talents and abilities of every person.

On the 14th anniversary of this landmark legislation, we recognize the important progress the ADA has brought about for our citizens and our Nation. Today, individuals with disabilities are better able to develop meaningful skills, engage in productive work, and participate fully in society. Yet, our work is not finished. The millions of Americans with disabilities continue to face both physical barriers and false perceptions. Removing those obstacles requires a determined and focused commitment to the goals of the ADA: equality of opportunity, economic self-sufficiency, full participation, and independent living.

My Administration continues its work to achieve these goals. My New Freedom Initiative, announced in February 2001, sets out a comprehensive strategy for the full integration of people with disabilities into all aspects of American life. The Department of Justice has established the ADA Business Connection to build partnerships between the business community and people with disabilities. This program helps increase voluntary compliance with the ADA and brings individuals with disabilities into the mainstream of our economy. Through Project Civic Access, we have reached agreements with cities and towns across the country to ensure that people with disabilities are integrated into community life. In addition, I have signed executive orders that remove barriers to equal opportunities faced by people with disabilities.

On July 22, 2004, I signed an Executive Order that makes government agencies responsible for properly taking into account agency employees and customers with disabilities in emergency preparedness planning and coordination with other government entities. To help coordinate this effort, the Executive Order establishes the Interagency Coordinating Council on Emergency Preparedness and Individuals with Disabilities.

I also signed an Executive Order on February 24, 2004, to improve transportation for people who are transportation-disadvantaged, including people with disabilities. This order helps Federally assisted community transportation services provide seamless, comprehensive, and accessible transportation services to people who rely on transportation services for their lives and livelihood.

My Administration has also begun implementing the recommendations of the New Freedom Commission on Mental Health. The Commission was established by Executive Order and its report lays out steps that can be taken to improve mental health services and support for people of all ages with mental illness.

By striving to ensure that no American is denied access to employment, education, cultural activities, or community life because of a disability, we strengthen our Nation. Through these and other efforts, we will continue to build on the progress of the ADA, and, by doing so, hold fast to our Nation's faith in the promise and potential of every person.

NOW, THEREFORE, I, GEORGE W. BUSH, President of the United States of America, by virtue of the authority vested in me by the Constitution and laws of the United States, do hereby proclaim July 26, 2004, as a day in celebration of the 14th Anniversary of the Americans with Disabilities Act. I call upon all Americans to celebrate the contributions people with disabilities make to America and to renew our commitment to upholding the fundamental principles of the Americans with Disabilities Act.

IN WITNESS WHEREOF, I have hereunto set my hand this twenty-sixth day of July, in the year of our Lord two thousand four, and of the Independence of the United States of America the two hundred and twenty-ninth.

B

[FR Doc. 04-17439

Filed 7-29-04; 9:09 am]

Billing code 3195-01-P